DEPARTMENT OF COMMERCE

National Oceanic and Atmospheric Administration

RIN 0648-XD170

Caribbean Fishery Management Council; Scoping Meetings

AGENCY: National Marine Fisheries Service (NMFS), National Oceanic and Atmospheric Administration (NOAA), Commerce.

ACTION: Notice of scoping meetings.

SUMMARY: The Caribbean Fishery Management Council (Council) is transitioning from species specific fishery management to island-specific fisheries management for the exclusive economic zones of Puerto Rico, St. Thomas/St. John and St. Croix separately. This transition is in response to the numerous requests received by the Council to consider the differences among the islands in the U.S. Caribbean. These differences include preference for certain species of fish, ways in which fish species are harvested and other cultural and socio economic factors such as market availability of importance in managing fisheries. The scoping document includes actions and alternatives for each island to make changes to the existing fishery management units by including or excluding species, establish or modify management reference points to determine the status of the stocks, and identify and describe essential fish habitat for any new species considered for federal management. These actions and alternatives are presented for each island specific fishery management plan in the scoping document that is available at the Council's Web page: www.caribbeanfmc.com.

Puerto Rico FMP

Action 1. Identify fishery management units (FMUs) to be included in the Puerto Rico Fishery Management Plan (FMP).

Alternative 1. No action. The Puerto Rico FMP is composed of all species within the FMUs historically managed under the Spiny Lobster FMP, Reef Fish FMP, Queen Conch FMP, and the Corals and Reef Associated Plants and Invertebrates FMP.

Alternative 2. Include in the Puerto Rico FMP species with available landings information from the Southeast Fisheries Science Center. In addition, prohibited harvest species in the current Reef Fish FMP, Queen Conch FMP, and the Corals and Reef Associated Plants and Invertebrates FMP will be included.

Alternative 3. Include in the Puerto Rico FMP only those species with annual average landings equal to or greater than a certain number of pounds (X pounds) yet to be determined. In addition, prohibited harvest species in the current Reef Fish FMP, Queen Conch FMP, and the Corals and Reef Associated Plants and Invertebrates FMP will be included.

Alternative 4. Include species in the Puerto Rico FMP that meet a predetermined set of criteria established in consultation with the Southeast Fisheries Science Center and the Caribbean Council Scientific and Statistical Committee.

Action 2. Establish management reference points for FMUs in the Puerto Rico Fishery Management Plan (FMP).

Alternative 1. No action. Retain the existing management reference points or proxies for FMUs currently managed by the Council.

Alternative 2. Revise existing management reference points or proxies for FMUs managed by the Council.

Alternative 3. Establish management reference points or proxies for new species in the Puerto Rico FMP.

Action 3. Identify/describe essential fish habitat (EFH) for new species in the Puerto Rico FMP.

Alternative 1. No Action. Do not identify essential fish habitat for new species added to the Puerto Rico FMP.

Alternative 2. Describe and identify EFH according to functional relationships between life history stages of federally managed species and U.S. Caribbean marine and estuarine habitats.

Alternative 3. Designate habitat areas of particular concern in the Puerto Rico FMPs based on confirmed spawning locations and on areas or sites identified as having particular ecological importance to managed species.

St.Thomas/St. John FMP

Action 1. Identify fishery management units (FMUs) to be included in the St. Thomas/St. John Fishery Management Plan (FMP).

Alternative 1. No action. The St. Thomas/St. John FMP is composed of all species within the FMUs historically managed under the Spiny Lobster FMP, Reef Fish FMP, Queen Conch FMP, and the Corals and Reef Associated Plants and Invertebrates FMP.

Alternative 2. Include in the St. Thomas/St. John FMP species with available landings information from the Southeast Fisheries Science Center. In addition, prohibited harvest species in the current Reef Fish FMP, Queen Conch FMP, and the Corals and Reef Associated Plants and Invertebrates FMP will be included.

Alternative 3. Include in the St. Thomas/St. John FMP only those species with annual average landings equal to or greater than a certain number of pounds (X pounds) yet to be determined. In addition, prohibited harvest species in the current Reef Fish FMP, Queen Conch FMP, and the Corals and Reef Associated Plants and Invertebrates FMP will be included.

Alternative 4. Include species in the St. Thomas/St. John FMP that meet a predetermined set of criteria established in consultation with the Southeast Fisheries Science Center and the Caribbean Council Scientific and Statistical Committee.

Action 2. Establish management reference points for FMUs in the St. Thomas/St. John Fishery Management Plan (FMP).

Alternative 1. No action. Retain the existing management reference points or proxies for FMUs currently managed by the Council.

Alternative 2. Revise existing management reference points or proxies for FMUs managed by the Council.

Alternative 3. Establish management reference points or proxies for new species added to the St. Thomas/St. John FMP.

Action 3. Identify/describe essential fish habitat (EFH) for new species in the St. Thomas/St. John FMP.

Alternative 1. No Action. Do not identify essential fish habitat for new species added to the St. Thomas/St. John FMP.

Alternative 2. Describe and identify EFH according to functional relationships between life history stages of federally managed species and U.S. Caribbean marine and estuarine habitats.

Alternative 3. Designate habitat areas of particular concern in the St. Thomas/St. John FMPs based on confirmed spawning locations and on areas or sites identified as having particular ecological importance to managed species.

St. Croix FMP

Action 1. Identify fishery management units (FMUs) to be included in the St. Croix Fishery Management Plan (FMP).

Alternative 1. No action. The St. Croix FMP is composed of all species within the FMUs historically managed under the Spiny Lobster FMP, Reef Fish FMP, Queen Conch FMP, and the Corals and Reef Associated Plants and Invertebrates FMP.

Alternative 2. Include in the St. Croix FMP species with available landings information from the Southeast Fisheries Science Center. In addition, prohibited harvest species in the Reef Fish FMP, and the Corals and Reef Associated Plants and Invertebrates FMP will be included.

Alternative 3. Include in the St. Croix FMP only those species with annual average landings equal to or greater than a certain number of pounds (X pounds) yet to be determined. In addition, prohibited harvest species in the current Reef Fish FMP and the Corals and Reef Associated Plants and Invertebrates FMP will be included.

Alternative 4. Include species in the St. Croix FMP that meet a predetermined set of criteria established in consultation with the Southeast Fisheries Science Center and the Caribbean Council Scientific and Statistical Committee

Action 2. Establish management reference points for FMUs in the St. Croix Fishery Management Plan (FMP).

Alternative 1. No action. Retain the existing management reference points or proxies for FMUs currently managed by the Council.

Alternative 2. Revise existing management reference points or proxies for FMUs managed by the Council.

Alternative 3. Establish management reference points or proxies for new species added to the St. Croix FMP.

Action 3. Identify/describe essential fish habitat (EFH) for new species in the St. Croix FMP.

Alternative 1. No Action. Do not identify essential fish habitat for new species added to the St. Croix FMP.

Alternative 2. Describe and identify EFH according to functional relationships between life history stages of federally managed species and U.S. Caribbean marine and estuarine habitats.

Alternative 3. Designate habitat areas of particular concern in the St. Croix FMPs based on confirmed spawning locations and on areas or sites identified as having particular ecological importance to managed species.

Dates and Addresses:

In Puerto Rico

April 7, 2014—7 p.m.-10 p.m.—Parador and Restaurant El Buen Café, #381, Rd. #2, Hatillo, Puerto Rico.

April 8, 2014—7 p.m.-10 p.m.—Mayaguez Holiday Inn, 2701 Hostos Avenue, Mayagüez, Puerto Rico.

April 9, 2014—7 p.m.-10 p.m.—Asociación de Pescadores de Playa Húcares, Carr. #3, Km. 65.9, Naguabo, Puerto Rico.

April 10, 2014—7 p.m.-10 p.m.—DoubleTree Hilton Hotel, De Diego Avenue, San Juan, Puerto Rico.

April 14, 2014—7 p.m.-10 p.m.—Holiday Inn Ponce & Tropical Casino, 3315 Ponce By Pass, Ponce, Puerto Rico.

In the U.S. Virgin Islands

April 7, 2014—7 p.m.-10 p.m.—Windward Passage Hotel, Veterans Drive, Charlotte Amalie, St. Thomas, U.S. Virgin Islands.

April 8, 2014—7 p.m.-10 p.m.—The Buccaneer Hotel, Estate Shoys, Christiansted, St. Croix, U.S. Virgin Islands.

FOR FURTHER INFORMATION CONTACT: Caribbean Fishery Management Council, 270 Muñoz Rivera Avenue, Suite 401, San Juan, Puerto Rico 00918-1903, telephone: (787) 766-5926.

SUPPLEMENTARY INFORMATION: The Caribbean Fishery Management Council will hold scoping meetings to receive public input on the management options mentioned above. The complete document is available at: www.caribbeanfmc.com or you may contact Ms. Livia Montalvo at livia_montalvo_cfmc@yahoo.com, or the Council office at (787) 766-5926 to obtain copies.

Written comments can be sent to the Council not later than April 15th, 2014, by regular mail to the address below, or via email to graciela_cfmc@yahoo.com.

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone (787) 766-5926, at least 5 days prior to the meeting date.

Dated: March 12, 2014.
Tracey L. Thompson,
Acting Deputy Director, Office of Sustainable Fisheries, National Marine Fisheries Service.

[FR Doc. 2014-05783 Filed 3-14-14; 8:45 am]

BILLING CODE 3510-22-P